DEPARTMENT OF ENERGY

Federal Energy Regulatory Commission

[Project Nos. 460-033; 460-040]

City of Tacoma, WA; Notice of Technical Conference, Public Meeting, and Site Visit for the Cushman Hydroelectric Project Settlement Agreement and Amendment of License To Construct Third Powerhouse

April 24, 2009.

On January 21, 2009, the City of Tacoma, Washington (Tacoma Power), on behalf of itself, the Skokomish Indian Tribe, and six state and federal agencies, filed a comprehensive settlement agreement (Settlement) and Joint Explanatory Statement for the Cushman Project. On January 26, 2009, Tacoma Power filed an Application for Amendment of License to construct a third powerhouse at the base of Cushman Dam No. 2.

Technical Conference and Public Meeting

Commission staff will hold a technical conference to discuss the proposed license articles submitted by Tacoma Power as part of its Settlement. Commission staff will also hold a public meeting to solicit comments on the Settlement and License Amendment.

The technical conference will be held on Thursday, May 21, 2009, beginning at 8:30 a.m. (PST). Participation at the technical conference will be limited to Commission staff and the Settlement Parties, though the public is free to attend. The public meeting will begin at 4 p.m. (PST). Both the technical conference and public meeting will be held at the Tacoma Public Utilities building, located at 3628 S. 35th Street, Tacoma, WA 98409-3192. The technical conference and meeting will be recorded by a court reporter, and all statements (verbal and written) will become part of the Commission's public record for the project. The conference, meeting, and site visit described below are posted on the Commission's calendar located at http://www.ferc.gov/EventCalendar/EventsList.aspx along with other related information.

Site Visit

On Wednesday, May 20, 2009, Commission staff, along with representatives of Tacoma Power, will conduct a site visit of the Cushman Project. The site visit will begin at 8:30 a.m. (PST). All interested individuals, organizations, and agencies are invited to attend. All participants should meet at Cushman Powerhouse No. 2, located on Hwy 101, 2.4 miles south of Hoodsport, WA. In addition, all participants are responsible for their own transportation to the site and throughout the day. Anyone planning to attend, or otherwise with questions about, the site visit should contact Mr. Paul Hickey of Tacoma Power at (253) 502-8692.

For further information, contact Allan Creamer at (202) 502-8365, or by e-mail at allan.creamer@ferc.gov.

Kimberly D. Bose,
Secretary.

[FR Doc. E9-10103 Filed 5-1-09; 8:45 am]

BILLING CODE 6717-01-P